FEDERAL ELECTION COMMISSION

Sunshine Act Meetings

AGENCY: Federal Election Commission.

DATE AND TIME: Tuesday, August 16, 2016 at 10:00 a.m.

PLACE: 999 E Street NW., Washington, DC (Ninth Floor).

STATUS: This meeting will be open to the public.

ITEMS TO BE DISCUSSED:

Correction and Approval of Minutes for June 30, 2016

Draft Advisory Opinion 2016-08: eBundler.com, LLC

REG 2013-01: Draft Notice of Proposed Rulemaking on Technological Modernization

REG 2014-10: Implementing the Consolidated and Further Continuing

Appropriations Act, 2015

REG 2016-03: Political Party Rules

Proposal to Rescind Advisory Opinion 2006-15 (TransCanada)

Management and Administrative Matters

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Shawn Woodhead Werth,
Secretary and Clerk of the Commission.

[FR Doc. 2016-19305 Filed 8-10-16; 11:15 am]

BILLING CODE 6715-01-P